ENVIRONMENTAL PROTECTION AGENCY

40 CFR Part 52

[EPA-R01-OAR-2007-0963; A-1-FRL-8522-1]

Approval and Promulgation of Air Quality Implementation Plans; Maine; Ozone Maintenance Plans

AGENCY: Environmental Protection Agency (EPA).

ACTION: Direct final rule.

SUMMARY: The EPA is approving a State Implementation Plan (SIP) revision submitted by the State of Maine, that includes four separate 8-hour ozone maintenance plans. The Clean Air Act requires that areas that are designated attainment for the 8-hour ozone standard, and also had been previously designated either nonattainment or maintenance for the 1-hour ozone standard, develop a plan showing how the state will maintain the ozone standard for the area. Maine's maintenance plans include an emissions inventory, a plan for how the state will demonstrate and track progress of continued maintenance of the standard, a commitment to continue ozone monitoring, and a contingency plan that will ensure that any violation of the 8-hour ozone standard is promptly addressed. The intended effect of this action is to approve these four maintenance plans into the Maine SIP. This action is being taken under the Clean Air Act.

DATES: This direct final rule will be effective March 31, 2008, unless EPA receives adverse comments by February 28, 2008. If adverse comments are received, EPA will publish a timely withdrawal of the direct final rule in the Federal Register informing the public that the rule will not take effect.

ADDRESSES: Submit your comments, identified by Docket ID Number EPA-R01-OAR-2007-0963 by one of the following methods:

1. www.regulations.gov: Follow the on-line instructions for submitting comments.

2. E-mail: arnold.anne@epa.gov

3. Fax: (617) 918-0047. Mail: “Docket Identification Number EPA-R01-OAR-2007-0963,” Anne Arnold, U.S. Environmental Protection Agency, EPA New England Regional Office, One Congress Street, Suite 1100 (mail code CAQ), Boston, MA 02114-2023.

4. Hand Delivery or Courier. Deliver your comments to: Anne Arnold, Manager, Air Quality Planning Unit, Office of Ecosystem Protection, U.S. Environmental Protection Agency, EPA New England Regional Office, One Congress Street, 11th floor, (CAQ), Boston, MA 02114-2023. Such deliveries are only accepted during the Regional Office's normal hours of operation. The Regional Office's official hours of business are Monday through Friday, 8:30 to 4:30, excluding legal holidays.

Instructions: Direct your comments to Docket ID No. EPA-R01-OAR-2007-0963. EPA's policy is that all comments received will be included in the public docket without change and may be made available online at www.regulations.gov, including any personal information provided, unless the comment includes information claimed to be Confidential Business Information (CBI) or other information whose disclosure is restricted by statute. Do not submit through www.regulations.gov, or e-mail, information that you consider to be CBI or otherwise protected. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at Office of Ecosystem Protection, U.S. Environmental Protection Agency, EPA New England Regional Office, One Congress Street, Suite 1100, Boston, MA. EPA requests that if at all possible, you contact the contact listed in the FOR FURTHER INFORMATION CONTACT section to schedule your inspection. The Regional Office's official hours of business are Monday through Friday, 8:30 to 4:30, excluding legal holidays.

In addition, copies of the state submittal and EPA's technical support document are also available for public inspection during normal business hours, by appointment at the State Air Agency; the Bureau of Air Quality Control, Department of Environmental Protection, First Floor Tyson Building, Augusta Mental Health Institute Complex, Augusta, ME 04333-0017.

FOR FURTHER INFORMATION CONTACT: Richard P. Burkhart, Air Quality Planning Unit, U.S. Environmental Protection Agency, EPA New England Regional Office, One Congress Street, Suite 1100 (CAQ), Boston, MA 02114-2023, telephone number (617) 918-1664, fax number (617) 918-0664, e-mail Burkhart.Richard@epa.gov.

SUPPLEMENTARY INFORMATION: Throughout this document whenever “we,” “us,” or “our” is used, we mean EPA.

Organization of this document. The following outline is provided to aid in locating information in this preamble.

I. What Action Is EPA Taking?

II. What Is a Section 110(a)(1) Maintenance Plan?

III. How Has Maine Addressed the Components of a Section 110(a)(1) 8-Hour Ozone Maintenance Plan?

IV. Final Action

V. Statutory and Executive Order Reviews

I. What Action Is EPA Taking?

EPA is approving a State Implementation Plan (SIP) revision submitted by the State of Maine on August 7, 2006. The SIP revision consists of the Clean Air Act (CAA or Act) Section 110(a)(1) 8-hour ozone maintenance plans for four areas in Maine. Maine held a public hearing on the proposed SIP revision on July 6, 2006. The maintenance plans demonstrate how the state intends to maintain the 8-hour National Ambient Air Quality Standard (NAAQS) for ozone. These plans replace the existing ozone maintenance plan for the former Hancock and Waldo Counties 1-hour marginal ozone nonattainment area. That plan had been included as part of the redesignation request for this area as required under 175A of the Clean Air Act. (See 62 FR 9081; February 28, 1997.)

Maine has four areas that are required to submit a CAA Section 110(a)(1) maintenance plan. This requirement applies to areas that are designated as attainment/unclassifiable for the 8-hour ozone standard and also had a designation of either nonattainment or attainment with an approved maintenance plan for the 1-hour ozone standard as of June 15, 2004 (the effective date of the 8-hour ozone standard designation for these areas).¹ In Maine, these areas are:

¹ See 69 FR 23857.

Area 1—Portions of York and Cumberland Counties;

Area 2—Portions of Androscoggin and all of Kennebec County;

Area 3—Portions of Knox and Lincoln Counties; and

Area 4—Portions of Hancock and Waldo Counties.

The exact cites and towns in these areas are listed in the Technical Support Document (TSD) for this action, and in the Maine submittal. The TSD and Maine's submittal are available in the docket for this action or from the contact listed in the FOR FURTHER INFORMATION CONTACT section of this action.

II. What Is a Section 110(a)(1) Maintenance Plan?

Section 110(a)(1) of the CAA requires, in part, that states submit to EPA plans to maintain any NAAQS promulgated by EPA. EPA interprets this provision to require that areas that were either nonattainment or maintenance areas for the 1-hour ozone NAAQS, but attainment for the 8-hour ozone NAAQS, submit a plan to demonstrate the continued maintenance of the 8-hour ozone NAAQS. EPA established June 15, 2007, three years after the effective date of the initial 8-hour ozone designations, as the deadline for submission of plans for these areas.

On May 20, 2005, EPA issued guidance ² that applies, in part, to areas that are designated attainment/unclassifiable for the 8-hour ozone standard and either have an approved 1-hour ozone maintenance plan or were designated nonattainment of the 1-hour ozone standard. The purpose of the guidance is to assist the states in the development of a SIP which addresses the maintenance requirements found in Section 110(a)(1) of the CAA. There are five components of a Section 110(a)(1) maintenance plan which are: (1) An attainment inventory, which is based on actual typical summer day emissions of volatile organic compounds (VOCs) and oxides of nitrogen (NOX) for a ten-year period from a base year as chosen by the state; (2) a maintenance demonstration which shows how the area will remain in compliance with the 8-hour ozone standard for 10 years after the effective date of designations (June 15, 2004); (3) a commitment to continue to operate air quality monitors; (4) a contingency plan that will ensure that a violation of the 8-hour ozone NAAQS is promptly addressed; and (5) an explanation of how the state will track the progress of the maintenance plan.

² “Maintenance Plan Guidance Document for Certain 8-hour Ozone Areas Under Section 110(a)(1) of Clean Air Act,” EPA memorandum dated May 20, 2005, from Lydia Wegman to Air Division Directors.

III. How Has Maine Addressed the Components of a Section 110(a)(1) 8-Hour Ozone Maintenance Plan?

EPA has determined that the ME DEP (Maine Department of Environmental Protection) 8-hour ozone maintenance plans address all of the necessary components of a Section 110(a)(1) 8-hour ozone maintenance plan as discussed below.

A. Emissions Inventory: An emissions inventory is an itemized list of emission estimates for sources of air pollution in a given area for a specified time period. ME DEP has provided a comprehensive and current emissions inventory for ozone precursors (NOX and VOCs) in the four areas. ME DEP uses 2002 as the base year from which it projects emissions. The submittal also includes an explanation of the methodology used for determining the anthropogenic emissions (point, area, and mobile sources) in the maintenance areas. The inventory is based on emissions for a typical ozone season day. The term “typical” refers to emissions expected on a typical weekday during the months where ozone concentrations are typically the highest.

B. Maintenance Demonstration and Tracking Progress: With regard to demonstrating continued maintenance of the 8-hour ozone standard, ME DEP projects that the total emissions from the four maintenance areas will decrease during the ten-year maintenance period. ME DEP has projected emissions from 2002 until 2016. The projected trend in emissions is downward. This clearly demonstrates that the 8-hour ozone standard will be maintained for the ten year period between 2004 and 2014, which is the required test, even though a specific inventory was not prepared for 2014.

Tables 1 through 4 show the total VOC and NOX emissions for each of the four maintenance areas in Maine for the base year (2002), an interim year (2009), and a final year (2016).³ More detailed emissions tables can be found in the TSD for this action and the ME DEP submittal. The trend in emissions is downward, for each pollutant, in each area. As such, the plan demonstrates that, from an emissions projections standpoint, emissions are projected to decrease.

³ It should be noted that the emissions shown in these tables are for the entire two counties named, rather than the somewhat smaller maintenance area, due to the difficulty of parsing out inventory data to a sub-county basis. This difference is not considered significant, and does not affect the downward trend shown in the emissions.

Table 1.—Maintenance Area 1—York and Cumberland County
[Emissions expressed in tons per summer week day]
Year | 2002 VOC | 2002 NOX | 2009 VOC | 2009 NOX | 2016 VOC | 2016 NOX
Total | 80.191 | 83.495 | 65.290 | 53.028 | 62.092 | 36.499

Table 2.—Maintenance Area 2—Androscoggin and Kennebec County
[Emissions expressed in tons per summer week day]
Year | 2002 VOC | 2002 NOX | 2009 VOC | 2009 NOX | 2016 VOC | 2016 NOX
Total | 31.820 | 32.322 | 25.430 | 21.042 | 23.405 | 13.608

Table 3.—Maintenance Area 3—Knox and Lincoln County
[Emissions expressed in tons per summer week day]
Year | 2002 VOC | 2002 NOX | 2009 VOC | 2009 NOX | 2016 VOC | 2016 NOX
Total | 18.417 | 18.128 | 15.827 | 13.393 | 15.060 | 11.661

Table 4.—Maintenance Area 4—Hancock and Waldo County
[Emissions expressed in tons per summer week day]
Year | 2002 VOC | 2002 NOX | 2009 VOC | 2009 NOX | 2016 VOC | 2016 NOX
Total | 24.034 | 18.355 | 18.887 | 11.103 | 17.143 | 7.426

It is important to note that the formation of ozone is dependent on a number of variables which cannot be estimated using only emissions growth and reduction calculations. These variables include, among others, weather and the transport of ozone precursors from outside the maintenance area. In its submittal, ME DEP has indicated that the state will track the progress of the maintenance plans by updating the emissions inventory for the four areas approximately every three years. The emissions inventory update will include point, area, and mobile source emissions. Information from these future updates will be compared with the 2002 inventory data to track maintenance of the standard.

C. Ambient Monitoring: With regard to the ambient air monitoring component of a maintenance plan, Maine's submittal describes the ozone monitoring network in Maine and commits to continue operating air quality monitors in accordance with 40 CFR Part 58 to verify maintenance of the 8-hour ozone standard. If any changes to the monitoring locations become necessary, Maine commits to working with EPA to ensure that the adequacy of the monitoring network is maintained. Based on ozone data from 2006, all of Maine meets the 8-hour ozone standard. Furthermore, preliminary ozone data for 2007 shows that all of Maine continues to meet this standard.

D. Contingency Measures: EPA interprets Section 110(a)(1) of the CAA to require that the state develop a contingency plan that will ensure that any violation of a NAAQS is promptly corrected. Therefore, as required by Section 110(a)(1) of the Act, Maine has listed possible contingency measures in the event of a future ozone air quality problem. At the conclusion of each ozone season, the Maine DEP will evaluate whether the design value for each of the maintenance areas meets the 8-hour ozone standard.⁴ If the design value for an area does not meet the standard, the DEP will evaluate the potential causes of this design value increase. The DEP will examine whether this increase is due to an increase in local in-state emissions or an increase in upwind out-of-state emissions. If an increase in in-state emissions is determined to be a contributing factor to the design value increase, Maine will evaluate the projected in-state emissions for the relevant maintenance area for the ozone season in the following year. If in-state emissions are not expected to satisfactorily decrease in the following ozone season in order to mitigate the violation, Maine will implement one or more of the contingency measures listed in the submittal, or substitute a new VOC or NOX control measures to achieve additional in-state emission reductions. The contingency measures(s) will be selected by the Governor, or the Governor's designee, within 6 months of the end of the ozone season for which contingency measures have been determined necessary. Further details on the types of possible control measures to be used as contingencies can be found in the TSD and the Maine submittal. Maine's submittal satisfies EPA's contingency measure requirements.

⁴ The design value at an ozone monitor is the 3-year average annual fourth-highest daily maximum 8-hour average ozone concentration measured at that monitor. The design value for an area is the highest design value recorded at any monitor in the area.

IV. Final Action

EPA is approving into the Maine SIP the Clean Air Act Section 110(a)(1) 8-hour ozone maintenance plans for the four areas in Maine that are required to have such plans. These areas are: Portions of York and Cumberland Counties; portions of Androscoggin and all of Kennebec County; portions of Knox and Lincoln Counties; and portions of Hancock and Waldo Counties.

The EPA is publishing this action without prior proposal because the Agency views this as a noncontroversial amendment and anticipates no adverse comments. However, in the proposed rules section of this Federal Register publication, EPA is publishing a separate document that will serve as the proposal to approve the SIP revision should relevant adverse comments be filed. This rule will be effective March 31, 2008 without further notice unless the Agency receives relevant adverse comments by February 28, 2008.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on March 31, 2008 and no further action will be taken on the proposed rule. Please note that if EPA receives adverse comment on an amendment, paragraph, or section of this rule and if that provision may be severed from the remainder of the rule, EPA may adopt as final those provisions of the rule that are not the subject of an adverse comment.

V. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601, et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 “Protection of Children from Environmental Health Risks and Safety Risks” (62 FR 19885, April 23, 1997), because it approves a state rule implementing a Federal standard.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501, et seq.).

The Congressional Review Act, 5 U.S.C. section 801, et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by March 31, 2008. Interested parties should comment in response to the proposed rule rather than petition for judicial review, unless the objection arises after the comment period allowed for in the proposal. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Nitrogen dioxide, Ozone, Reporting and recordkeeping requirements, Volatile organic compounds.

Dated: January 16, 2008.
Robert W. Varney,
Regional Administrator, EPA New England.

Part 52 of chapter I, title 40 of the Code of Federal Regulations is amended as follows:

PART 52—[AMENDED]

1. The authority citation for part 52 continues to read as follows:

Authority: 42 U.S.C. 7401, et seq.

Subpart U—Maine

2. Section 52.1023 is amended by adding paragraph (i) to read as follows:

§ 52.1023 Control strategy: Ozone.

* * * * *

(i) Approval: EPA is approving the 110(a)(1) 8-hour ozone maintenance plans in the four areas of the state required to have a 110(a)(1) maintenance plan for the 8-hour ozone National Ambient Air Quality Standard. These areas are as follows: portions of York and Cumberland Counties; portions of Androscoggin County and all of Kennebec County; portions of Knox and Lincoln Counties; and portions of Hancock and Waldo Counties. These maintenance plans were submitted to EPA on August 3, 2006.

[FR Doc. E8-1416 Filed 1-28-08; 8:45 am]

BILLING CODE 6560-50-P